DEPARTMENT OF LABOR

Employment and Training Administration

[TA-W-61,334]

Cinram Manufacturing, LLC; Olyphant, PA; Notice of Termination of Investigation

Pursuant to Section 221 of the Trade Act of 1974, as amended, an investigation was initiated on April 18, 2007 in response to a petition filed by a company official on behalf of workers of Cinram Manufacturing, LLC, Olyphant, Pennsylvania.

The petitioner has requested that the petition be withdrawn. Consequently, further investigation in this case would serve no purpose and the investigation has been terminated.

Signed at Washington, DC, this 24th day of May, 2007.
Linda G. Poole,
Certifying Officer, Division of Trade Adjustment Assistance.

[FR Doc. E7-10311 Filed 5-29-07; 8:45 am]

BILLING CODE 4510-FN-P